DEPARTMENT OF COMMERCE

International Trade Administration

[A-570-831]

Fresh Garlic From the People's Republic of China; Initiation of New Shipper Reviews

AGENCY: Import Administration, International Trade Administration, Department of Commerce.

EFFECTIVE DATE: July 7, 2006.

SUMMARY: The Department of Commerce (“the Department”) has determined that requests for new shipper reviews of the antidumping duty order on fresh garlic from the People's Republic of China (“PRC”), received in May 2005, meet the statutory and regulatory requirements for initiation. The period of review (“POR”) of these new shipper reviews is November 1, 2005, through April 30, 2006.

FOR FURTHER INFORMATION CONTACT: Javier Barrientos or Irene Gorelik, AD/CVD Operations, Office 9, Import Administration, International Trade Administration, U.S. Department of Commerce, 14th Street and Constitution Avenue, NW, Washington, DC 20230; telephone: (202) 482-2243 and (202) 482-6905, respectively.

SUPPLEMENTARY INFORMATION:

Background

The Department published the antidumping duty order on fresh garlic from the PRC on November 16, 1994. See Antidumping Duty Order: Fresh Garlic from the People's Republic of China, 59 FR 59209 (November 16, 1994). The Department received four timely requests for a new shipper review in accordance with 19 CFR 351.214(c), dated as follows:

Date | Requester
May 18, 2006 | Shenzhen Xinboda Industrial Co., Ltd. (“Xinboda”)
May 25, 2006 | Shandong Wonderland Organic Food Co., Ltd. (“Shandong Wonderland”)
May 30, 2006 | Jinxiang Tianma Freezing Storage Co., Ltd. (“Tianma Freezing”)
May 31, 2006 | Weifang Hongqiao International Logistic Co., Ltd. (“Weifang Hongqiao”)

On June 16, 2006, Weifan Hongqiao submitted a revised public version of its request. Xinboda, Shandong Wonderland, and Tianma Freezing each identified itself as the producer and exporter of the fresh garlic on which it based its request for a new shipper review. Weifang Hongqiao identified itself as the exporter and Jinxiang Dingtai Garlic Production Co., Ltd. (“Jinxiang Dingtai”) as the producer of the fresh garlic on which it based its request for a new shipper review.

As required by 19 CFR 351.214(b)(2) and (b)(2)(iii)(A), Xinboda, Shandong Wonderland, Tianma Freezing and Weifang Hongqiao certified that they did not export fresh garlic to the United States during the period of investigation (“POI”), and that each company has never been affiliated with any exporter or producer which exported fresh garlic to the United States during the POI. In addition, as required by 19 CFR 351.214(b)(2)(ii)(B) and (iii)(A), Jinxing Dintai, Weifang Hongqiao's producer, certified that it did not export fresh garlic to the United States during the POI and that it has never been affiliated with any exporter or producer which exported fresh garlic to the United States during the POI. Furthermore, Xinboda, Shandong Wonderland, Tianma Freezing, and Weifang Hongqiao have also certified that their export activities are not controlled by the central government of the PRC, satisfying the requirements of 19 CFR 351.214(b)(2)(iii)(B).

Pursuant to 19 CFR 351.214(b)(2)(iv) each exporter submitted documentation establishing: (A) the date on which the subject merchandise was first entered, or withdrawn from warehouse, for consumption; (B) the volume of its first shipment and any subsequent shipments; and (C) the date of its first sale to an unaffiliated customer in the United States. The Department conducted Customs database queries to confirm that each company's shipment had officially entered the United States via assignment of an entry date in the Customs database by U.S. Customs and Border Protection (“CBP”).

Initiation of Reviews

In accordance with section 751(a)(2)(B) of the Tariff Act of 1930, as amended (“the Act”), and 19 CFR 351.214(d)(1), and based on information on the record, we are initiating new shipper reviews for Xinboda, Shandong Wonderland, Tianma Freezing, and Weifang Hongqiao. See Memoranda to the File titled “New Shipper Initiation Checklist” for Xiboda, Shandong Wonderland, Tianma Freezing, and Weifang Hongqiao, dated June 27, 2006. We intend to issue the preliminary results of this review not later than 180 days after the date on which this review was initiated, and the final results of this review within 90 days after the date on which the preliminary results are issued. See section 751(a)(2)(B)(iv) of the Act.

As noted above, pursuant to 19 CFR 351.214(g)(1)(i)(B), the POR for a new shipper review initiated in the month immediately following the semiannual anniversary month will be the six-month period immediately preceding the semiannual anniversary month. Therefore, the POR for the new shipper reviews of Xinboda, Shandong Wonderland, Tianma Freezing, and Weifang Hongqiao will be November 1, 2005, through April 30, 2006.

It is the Department's usual practice in cases involving non-market economies to require that a company seeking to establish eligibility for an antidumping duty rate separate from the country-wide rate provide evidence of the absence of de jure and de facto government control over the company's export activities. Accordingly, we will issue questionnaires to Xinboda, Shandong Wonderland, Tianma Freezing, and Weifang Hongqiao including a “separate rates” section. The reviews will proceed if the responses provide sufficient indication that Xinboda, Shandong Wonderland, Tianma Freezing, and Weifang Hongqiao, are not subject to either de jure or de facto government control with respect to their exports of fresh garlic. However, if the exporter does not demonstrate the company's eligibility for a separate rate, then the company will be deemed not separate from the PRC-wide entity, which exported during the POI, and its new shipper review will be rescinded. See 19 CFR 351.214(b)(2)(iii)(A); see also Notice of Preliminary Results of Antidumping Duty New Shipper Review and Rescission of New Shipper Reviews: Freshwater Crawfish Tail Meat from the People's Republic of China, 69 FR 53669 (September 2, 2004) and Brake Rotors from the People's Republic of China: Rescission of Second New Shipper Review and Final Results and Partial Rescission of First Antidumping Duty Administrative Review, 64 FR 61581 (November 12, 1999).

In accordance with section 751(a)(2)(B)(iii) of the Act and 19 CFR 351.214(e), we will instruct CBP to allow, at the option of the importer, the posting, until the completion of these reviews, of a single entry bond or security in lieu of a cash deposit for certain entries of the merchandise exported by either Xinboda, Shandong Wonderland, Tianma Freezing, or Weifang Hongqiao. We will apply the bonding option under 19 CFR 351.107(b)(1)(i) only to entries from these four exporters for which the respective producers under review are the suppliers.

Interested parties that need access to proprietary information in these new shipper reviews should submit applications for disclosure under administrative protective orders in accordance with 19 CFR 351.305 and 351.306.

This initiation and notice are in accordance with section 751(a) of the Act and 19 CFR 351.214 and 351.221(c)(1)(i).

Dated: June 27, 2006.
Stephen J. Claeys,
Deputy Assistant Secretary for Import Administration.

[FR Doc. E6-10575 Filed 7-6-06; 8:45 am]

BILLING CODE 3510-DS-S